DEPARTMENT OF HOMELAND SECURITY

Coast Guard

33 CFR Part 117

[Docket No. USCG-2015-0258]

Drawbridge Operation Regulation; Inner Harbor Navigation Canal, New Orleans, LA

AGENCY: Coast Guard, DHS.

ACTION: Notice of deviation from drawbridge regulations.

SUMMARY: The Coast Guard has issued a temporary deviation from the operating schedule that governs the Senator Ted Hickey (Leon C. Simon Blvd./Seabrook) bascule bridge across the Inner Harbor Navigation Canal, mile 4.6, at New Orleans, Louisiana. The deviation is necessary to ensure the safety of participants in the Ochsner Ironman 70.3 New Orleans event as they travel across the bridge as part of the bike and run courses. This deviation allows the bridge to remain in the closed-to-navigation position continuously during the event.

DATES: This deviation is effective from 8 a.m. through 5 p.m. on Sunday, April 19, 2015.

ADDRESSES: The docket for this deviation, [USCG-2015-0258] is available at http://www.regulations.gov. Type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Geri Robinson, Bridge Administration Branch, Coast Guard, telephone (504) 671-2128, email geri.a.robinson@uscg.mil. If you have questions on viewing the docket, call Cheryl F. Collins, Program Manager, Docket Operations, telephone 202-366-9826.

SUPPLEMENTARY INFORMATION: The Coast Guard received a request for a temporary deviation for the Senator Ted Hickey (Leon C. Simon Blvd./Seabrook) crossing the Inner Harbor Navigation Canal, mile 4.6, in New Orleans, Louisiana to remain in the closed-to-navigation position for a nine-hour period during the Ochsner Ironman 70.3, on April 19, 2015. The bridge owner also received a request to close the bridge to all traffic during the Ironman event, which was approved. The bridge provides 45 feet in the closed-to-navigation position above mean sea level. Currently, according to 33 CFR 117.458(c), the draw of the Senator Ted Hickey (Leon C. Simon Blvd./Seabrook), mile 4.6, shall open on signal from 7 a.m. to 8 p.m.; except the bridge need not open from 7 a.m. to 8:30 a.m. and 5 p.m. to 6:30 p.m. Monday through Friday. From 8 p.m. to 7 a.m., the draw shall open on signal if at least two hours notice is given. This deviation allows the draw span of the bridge to remain closed to navigation between 8 a.m. and 5 p.m. on Sunday, April 19, 2015, while the Ironman participants travel across the bridge as part of the race course. Navigation on the waterway consists mainly of tugs with tows. As a result of coordination between the Coast Guard and the waterway users, it has been determined that this closure will not have a significant effect on these vessels. The Coast Guard will inform users through the Local and Broadcast Notice to Mariners of the closure period. There is an alternate route available via the Rigolets Pass to vessel traffic. Vessels that can pass under the bridge in the closed-to-navigation position can do so at any time. For the duration of the event, the bridge will not be able to open for emergencies.

In accordance with 33 CFR 117.35(e), the drawbridge must return to its regular operating schedule immediately at the end of the designated time period. This deviation from the operating regulations is authorized under 33 CFR 117.35.

Dated: April 8, 2015.
Eric A. Washburn,
Bridge Administrator, Eighth Coast Guard District.

[FR Doc. 2015-08488 Filed 4-13-15; 8:45 am]

BILLING CODE 9110-04-P